NUCLEAR REGULATORY COMMISSION

[Docket No. 040-08794]

Notice of Consideration of Amendment Request for the Molycorp Facility at York, PA, and Opportunity for Providing Comments and Requesting a Hearing

I. Introduction

The U.S. Nuclear Regulatory Commission (NRC) is considering issuance of a license amendment to Source Materials License SMB-1408 issued to Molycorp, Inc., (Molycorp), to allow for an alternate decommissioning schedule for its York, PA, site. Molycorp's license required Molycorp to decommission by June 2002, which is within 2 years of the date that the decommissioning plan was approved. Molycorp was granted a three month extension from the regulatory requirements of the Timeliness Rule in order to determine if there is a more efficient way to complete decommissioning the remaining portion of the site. Molycorp submitted an alternate decommissioning schedule in a letter dated September 30, 2002. Molycorp proposes to use a phased approach where a new site characterization plan is developed and submitted to NRC for concurrence prior to the resumption of remediation. Molycorp is to submit a revised remediation schedule by February 15, 2003.

If the NRC approves this request, the approval will be documented in a license amendment to NRC License SMB-1408. However, before approving the proposed amendment, the NRC will need to make the findings required by the Atomic Energy Act of 1954, as amended, and NRC's regulations. These findings will be documented in a safety evaluation report.

II. Opportunity To Request a Hearing

NRC also provides notice that this is a proceeding on an application for an amendment of a license falling within the scope of subpart L, “Informal Hearing Procedures for Adjudication in Materials Licensing Proceedings,” of NRC's rules of practice for domestic licensing proceedings in 10 CFR part 2. Whether or not a person has or intends to provide comments as set out in section II above, pursuant to § 2.1205(a), any person whose interest may be affected by this proceeding may file a request for a hearing in accordance with § 2.1205(d). A request for a hearing must be filed within 30 days of the date of publication of this Federal Register notice.

The request for a hearing must be filed with the Office of the Secretary either:

1. By delivery to the Docketing and Service Branch of the Office of the Secretary at One White Flint North, 11555 Rockville Pike, Rockville, MD 20852; or

2. By mail or telegram addressed to the Secretary, U.S. Nuclear Regulatory Commission, Washington, DC 20555, Attention: Docketing and Service Branch. Because of continuing disruptions in the delivery of mail to United States Government offices, it is requested that requests for hearing be also transmitted to the Secretary of the Commission either by means of facsimile transmission to 301-415-1101, or by e-mail to hearingdocket@nrc.gov.

In accordance with 10 CFR 2.1205(f), each request for a hearing must also be served, by delivering it personally or by mail, to:

1. The applicant, Molycorp, Inc., PO Box 469, Questa, NM 87556-0469, Attention: Ray Cherniske, and,

2. The NRC staff, by delivery to the Office of the General Counsel, U.S. Nuclear Regulatory Commission, One White Flint North, 11555 Rockville Pike, Rockville, MD 20852, or by mail addressed to the Office of the General Counsel, U.S. Nuclear Regulatory Commission, Washington, DC 20555-0001. Because of continuing disruptions in the delivery of mail to United States Government offices, it is requested that requests for hearing be also transmitted to the Office of the General Counsel either by means of facsimile transmission to 301-415-3725, or by e-mail to OGCMailCenter@nrc.gov.

In addition to meeting other applicable requirements of 10 CFR part 2 of NRC's regulations, a request for a hearing filed by a person other than an applicant must describe in detail:

1. The interest of the requestor in the proceeding;

2. How that interest may be affected by the results of the proceeding, including the reasons why the requestor should be permitted a hearing, with particular reference to the factors set out in § 2.1205(h);

3. The requestor's areas of concern about the licensing activity that is the subject matter of the proceeding; and

4. The circumstance establishing that the request for a hearing is timely in accordance with § 2.1205(d).

III. Further Information

The application for the license amendment and supporting documentation are available for inspection at NRC's Public Electronic Reading Room at http://www.nrc.gov/NRC/ADAMS/index.html. The June 17, 2002, request from Molycorp for an extension from the regulatory requirements of the Timeliness Rule is in ADAMS at ML021700600. The granting of the extension from the Timeliness Rule on June 20, 2002, is in ADAMS at ML021680158. The report of a meeting at NRC headquarters with Molycorp to discuss its proposed alternate decommissioning schedule is in ADAMS at ML022680692. Any questions with respect to this action should be referred to Tom McLaughlin, Decommissioning Branch, Division of Waste Management, Office of Nuclear Material Safety and Safeguards, U.S. Nuclear Regulatory Commission, Washington, DC 20555-0001. Telephone: (301) 415-5869. Fax: (301) 415-5398.

Dated in Rockville, Maryland, this fifth day of November 2002.
For the Nuclear Regulatory Commission.
Claudia M. Craig,
Acting Chief, Decommissioning Branch, Division of Waste Management, Office of Nuclear Material Safety and Safeguards.

[FR Doc. 02-28902 Filed 11-13-02; 8:45 am]

BILLING CODE 7590-01-P